FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 010099-059.

Title: International Council of Containership Operators.

Parties: A.P. Moller-Maersk A/S; American President Lines, Ltd.; APL Co. Pte. Ltd.; China Shipping Container Lines Co., Ltd.; CMA CGM, S.A.; Compañía Chilena de Navegación Interoceánica S.A.; Compania SudAmericana de Vapores S.A.; COSCO Container Lines Co. Ltd; Crowley Maritime Corporation; Evergreen Marine Corporation (Taiwan), Ltd.; Hamburg-Süd KG; Hanjin Shipping Co., Ltd.; Hapag-Lloyd AG; Hyundai Merchant Marine Co., Ltd.; Kawasaki Kisen Kaisha, Ltd.; Mediterranean Shipping Co. S.A.; Mitsui O.S.K. Lines, Ltd.; Nippon Yusen Kaisha; Orient Overseas Container Line, Ltd.; Pacific International Lines (Pte) Ltd.; United Arab Shipping Company (S.A.G.); Wan Hai Lines Ltd.; Yang Ming Transport Marine Corp.; and Zim Integrated Shipping Services Ltd.

Filing Party: John Longstreth, Esq.; K & L Gates LLP; 1601 K Street NW., Washington, DC 20006-1600.

Synopsis: The amendment changes the address of APL Co. Pte. Ltd.

Agreement No.: 012154-003.

Title: APL/Hamburg Süd Space Charter Agreement.

Parties: APL Co. Pte, Ltd. and American President Lines, Ltd. (acting as one party); and Hamburg Süd KG

Filing Party: Eric C. Jeffrey, Esq.; Nixon Peabody LLP; 401 9th Street NW., Suite 900, Washington, DC 20004.

Synopsis: The amendment updates the principal address of APL Co. Pte, Ltd.

Agreement No.: 012272-001.

Title: MSC/Zim Amazon Service Vessel Sharing Agreement.

Parties: MSC Mediterranean Shipping Company S.A. and Zim Integrated Shipping Services, Ltd.

Filing Party: Wayne R. Rohde, Esq.; Cozen O'Connor; 1627 I Street NW., Suite 1100, Washington, DC 20006.

Synopsis: The agreement would add Colombia to the geographic scope of the agreement, adjust the duration of the agreement, and restate the agreement.

By Order of the Federal Maritime Commission.
Dated: November 14, 2014.
Rachel E Dickon,
Assistant Secretary.

[FR Doc. 2014-27417 Filed 11-19-14; 8:45 am]

BILLING CODE 6730-01-P